DEPARTMENT OF THE INTERIOR

National Park Service

[NPS-WASO-NRNHL-1011-8618; 2200-3200-665]

National Register of Historic Places; Notification of Pending Nominations and Related Actions

Nominations for the following properties being considered for listing or related actions in the National Register were received by the National Park Service before October 1, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington DC 20005; or by fax, 202-371-6447. Written or faxed comments should be submitted by November 10, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

AMERICAN SAMOA

Eastern District

U.S. Naval Station Tutuila Samoa Hydro Electric Plant, Pipeline, and Dam, Off end of Main Rd., Fagatogo, 11000789

GEORGIA

Crawford County

Hawkins, Col. Benjamin, Gravesite, Benjamin Hawkins Rd., Roberta, 11000790

KENTUCKY

Calloway County

Murray Woman's Club Clubhouse, The, 704 Vine St., Murray, 11000792

Kenton County

LaSalette Academy, 702 Greenup St., Covington, 11000791

Laurel County

London Downtown Historic District, Main St. between W. 6th & W. 5th Sts., London, 11000793

Livingston County

Livingston County Courthouse and Clerk's Offices, 351 Court St., Smithland, 11000794

Mercer County

Lexington and Cane Run Historic District, E. Lexington & Cane Run Sts., Harrodsburg, 11000795

North Main Street Historic District, 105-414 N. Main St., 109 W. Lexington, 101 W. Broadway, 163 E. Broadway, Harrodsburg, 11000796

Baldwin's Tourist Court Residence—Office, 321 W. Stephen Foster Ave., Bardstown, 11000797

Kurtz Restaurant and Bardstown—Parkview Motel—Office, 418 E. Stephen Foster Ave., Bardstown, 11000798

Old Kentucky Home Motel, 414 Stephen Foster Ave., Bardstown, 11000799

Wilson Motel, 530 N. 3rd St., Bardstown, 11000800

Todd County

Guthrie Historic District, Roughly bounded by Ewing, Park & Cherry Sts., Guthrie, 11000801

Warren County

Hardcastle Store, The, 7286 Cemetery Rd., Bowling Green, 11000802

Washington County

Springfield Main Street Historic District, Roughly Commercial Ave. to College St. & McCord, High Sts. to E. Depot St., Springfield, 11000803

LOUISIANA

Orleans Parish

Lykes Brothers Steamship Company Historic District, 1770, 1744-46 Tchoupitoulas St., New Orleans, 11000804

NEW YORK

Monroe County

Brockport Central Rural High School, 40 Allen St., Brockport, 11000805

TENNESSEE

Davidson County

Park—Elkins Historic District, Roughly along Park & Elkins between 42nd & 50th Aves., Nashville, 11000806

Lincoln County

Whitaker—Motlow House, 740 Lynchburg Hwy., Mulberry, 11000807

Sullivan County

Piney Flats Historic District, Main, McKamey, & Methodist Church Sts. & parts of Tank Hill, Piney Flats, Austin Springs & Mountain View Rds., Piney Flats, 11000808

Washington County

Johnson City Country Club, 1901 E. Unaka Ave., Johnson City, 11000809

WISCONSIN

Ozaukee County

ISLAND CITY (schooner) Shipwreck, (Great Lakes Shipwreck Sites of Wisconsin MPS) 9 mi. SE. of Port Washington in Lake Michigan, Mequon, 11000810

Sheboygan County

WALTER B. ALLEN (canaller) Shipwreck, (Great Lakes Shipwreck Sites of Wisconsin MPS) 7 mi. NE. of Sheboygan in Lake Michigan, Mosel, 11000811

A request for REMOVAL has been made for the following resources:

TENNESSEE

Williamson County

Lamb—Stevens House, (Williamson County MRA) Burke Hollow Rd. 1½ mi. E of Wilson Pike, Franklin, 88000299

Russwurm, John S., House, (Williamson County MRA) Spann Town Rd. ½ mi. E of US Alt. 41, Triune, 88000349

[FR Doc. 2011-27640 Filed 10-25-11; 8:45 am]

BILLING CODE 4312-51-P